DEPARTMENT OF TRANSPORTATION

Federal Motor Carrier Safety Administration

49 CFR Part 383

[Docket No. FMCSA-2005-20043]

RIN 2126-AA01

Minimum Uniform Standards for a Biometric Identification System To Ensure Identification of Operators of Commercial Motor Vehicles; Withdrawal

AGENCY: Federal Motor Carrier Safety Administration (FMCSA), DOT.

ACTION: Advance notice of proposed rulemaking (ANPRM); withdrawal.

SUMMARY: The Federal Motor Carrier Safety Administration (FMCSA) (formerly the Federal Highway Administration's (FHWA) Office of Motor Carriers) withdraws two advance notices of proposed rulemaking (ANPRM) on using biometric identifiers to provide positive identification of drivers in the Commercial Driver's License Information System (CDLIS) and to prevent drivers from obtaining more than one commercial driver's license (CDL). The ANPRM requesting comments was published on May 15, 1989 at 54 FR 20875; an ANPRM providing additional information was published on March 8, 1991 at 56 FR 9925. The Transportation Security Administration (TSA) currently is developing a Transportation Worker Identification Credential (TWIC) that will incorporate biometric identifiers. FMCSA does not want to cause a conflict in standards adopted by each agency or place an undue burden on States by imposing two different standards and/or technologies for CDLs and the TWIC. In the future, FMCSA may assess the impact of the TWIC upon the Federal Motor Carrier Safety Regulations.

DATES: The ANPRM with request for comments published on May 15, 1989, and the ANPRM with additional information published on March 8, 1991, are withdrawn as of May 9, 2005.

FOR FURTHER INFORMATION CONTACT: Ms. Carol Gore, Leader, Commercial Driver's License Team, (202) 366-4013, Federal Motor Carrier Safety Administration, (MC-ESS), 400 Seventh Street SW., Washington, DC 20590-0001. Office hours are from 7:45 a.m. to 4:15 p.m. ET, Monday through Friday, except Federal holidays.

SUPPLEMENTARY INFORMATION:

Background

Section 9105(a) of the Truck and Bus Safety and Regulatory Reform Act of 1988 [Pub. L. 100-690, November 18, 1988, 102 Stat. 4530] required the agency to issue minimum biometric identification standards for operators of commercial motor vehicles (CMVs) by December 31, 1990. The purpose of this system would be to provide positive identification of drivers in the Commercial Driver's License Information System (CDLIS) and to prevent drivers from obtaining more than one driver's license.

In 1988, FHWA ¹ and a committee including four State licensing agencies and the American Association of Motor Vehicle Administrators (AAMVA) assessed the feasibility of using certain biometric identifier technologies to fulfill the statutory requirements of sec. 9105(a) of the Truck and Bus Safety and Regulatory Reform Act of 1988. The committee found both retinal scanning and automated fingerprint identification systems (AFIS) feasible ² for use in the planned pilot study and identified an initial set of functional requirements ³ for a biometric identification system for CMV operators.

¹ The Federal Highway Administration (FHWA), Office of Motor Carriers became the Federal Motor Carrier Safety Administration (FMCSA) on January 1, 2000 (64 FR 72959, December 29, 1999).

² “Personal Identifier Project Feasibility Study Report,” State of California Department of Motor Vehicles, Project No. 2300-75, Log No. 215-88; Revised December 7, 1988.

³ “Functional Description for a Unique Identification System for the Commercial Driver's License Information System (CDLIS),” Office of Motor Carriers; Report No. FHWA-MC-88-048; February 1988.

On May 15, 1989,⁴ the agency requested comments on the establishment of biometric identifiers for operators of CMVs and announced the pilot study on the use of fingerprints and retinal scan technology to positively and uniquely identify operators of CMVs. The pilot study was conducted in 1990.

⁴ “Minimum Uniform Standards for a Biometric Identification System to Ensure Identification of Operators of Commercial Motor Vehicles;” published at 54 FR 20875, May 15, 1989); ANPRM.

On March 8, 1991,⁵ the agency published an ANPRM with the results of the pilot study and with a summary and response to comments to the 1989 ANPRM. (The 1991 ANPRM provided supplemental information on the biometric identifier issue but did not request additional comments.) FHWA concluded that neither retinal scanning nor AFIS was sufficiently accurate or cost effective to be practical at that time. Therefore, the agency did not issue a notice of proposed rulemaking. Instead, further rulemaking action on the matter was deferred until the technology developed to meet FHWA functional requirements. The agency continued to require States to make available in CDLIS a driver's personal identification information.

⁵ “Minimum Uniform Standards for Biometric Identification System to Ensure Identification of Operators of Commercial Motor Vehicles;” published at 56 FR 9925 on March 8, 1991; ANPRM; additional information.

In 1998, section 4011(c) of the Transportation Equity Act for the 21st Century [49 U.S.C. 31308(2)] (TEA-21) required the agency to issue a rule mandating that all commercial driver's licenses (CDLs) issued by States after January 1, 2001, include a unique identifier that may be biometric. Although the 1998 legislation did not explicitly repeal the 1988 mandatory biometric identifier language, the agency concluded the contradictory language of the 1998 statute, when viewed against the lack of a statement of congressional intent in the legislative conference reports for TEA-21, supersedes and repeals by implication the 1988 mandate. Therefore, FMCSA found that TEA-21 changed the standard from mandating use of a biometric identifier to mandating use of a unique identifier, which may or may not be biometric.

In 1999, FMCSA again conducted a study to determine if a national biometric program was feasible and whether fingerprinting or facial imaging should be used. The results showed that a national biometric implementation program is feasible and that thumbprints are better than facial images as a biometric standard.

Withdrawal of Proposal

FMCSA believes the agency has satisfied the unique identifier standard in TEA-21 through its adoption of a specialized search procedure as part of the CDLIS. This procedure contains the following seven personal identifiers: Name, date of birth, sex, height, weight, eye color, and Social Security number, in an algorithm designed to produce a highly probable personal identification.

The Transportation Security Administration (TSA) currently is developing a Transportation Worker Identification Credential (TWIC) that will incorporate biometric identifiers. Because FMCSA is no longer required to promulgate a regulation on biometric identifiers, the agency believes TSA is the agency in a better position to lead further development of biometric identifiers, thereby avoiding a potential conflict in standards adopted by each agency. The adoption of different standards and/or technologies for CDLs and a TWIC could place an unnecessary burden on States. Therefore, FMCSA is withdrawing its ANPRMs dated May 15, 1989, and March 8, 1991, on biometric identifiers.

FMCSA has shared its research on biometric identifiers with TSA. FMCSA will continue to work in a collaborative effort with TSA on the development of TSA's biometric identifier standard and the development of a TWIC. In the future, FMCSA may assess the impact of the TWIC upon the Federal Motor Carrier Safety Regulations.

Issued on: April 27, 2005.
Annette M. Sandberg,
Administrator.

[FR Doc. 05-9171 Filed 5-6-05; 8:45 am]

BILLING CODE 4910-EX-P